DEPARTMENT OF AGRICULTURE

Animal and Plant Health Inspection Service

9 CFR Part 95

[Docket No. APHIS-2006-0113]

RIN 0579-AC11

Importation of Swine Hides and Skins, Bird Trophies, and Ruminant Hides and Skins; Technical Amendment

AGENCY: Animal and Plant Health Inspection Service, USDA.

ACTION: Final rule; technical amendment.

SUMMARY: In a final rule that was published in the Federal Register on December 15, 2009, and effective on January 14, 2010, we amended the regulations governing the importation of animal byproducts to, among other things, provide specific conditions under which deer and other ruminant hides and skins from Mexico could be imported into the United States in order to protect U.S. livestock from the introduction of bovine babesiosis. It was our intent to indicate that deer and ruminant hides and skins from Mexico may not go to an approved establishment upon importation into the United States rather than comply with the specific conditions established in the final rule. This document corrects that error.

DATES: Effective Date: May 19, 2011.

FOR FURTHER INFORMATION CONTACT: Dr. Tracye Butler, Senior Staff Veterinarian, Technical Trade Services, National Center for Import and Export, VS, APHIS, 4700 River Road, Unit 39, Riverdale, MD 20737-1231; (301) 734-7476.

SUPPLEMENTARY INFORMATION:

Background

In a final rule that was published in the Federal Register on December 15, 2009 (74 FR 66222-66227, Docket No. APHIS-2006-0113), and effective on January 14, 2010, we amended the regulations governing the importation of animal byproducts to, among other things, provide specific conditions under which deer and other ruminant hides and skins from Mexico could be imported into the United States in order to protect U.S. livestock from the introduction of bovine babesiosis.

In the final rule, we added provisions for the importation of ruminant hides and skins from Mexico to § 95.5. We provided that hides and skins from Mexico may enter the United States without other restriction if they are hard dried (paragraph (a)(2)); have been pickled in a solution of salt containing mineral acid which has a pH of less than or equal to 5 and placed in containers while wet (paragraph (a)(4)); or have been treated with lime so as to have become dehaired and ready for preparation into rawhide products (paragraph (a)(5)).

In order to address the specific risk to U.S. livestock of bovine babesiosis, we are amending paragraph (b)(1) of § 95.5 to add the statement that ruminant hides and skins from Mexico must also be free of ticks in addition to having been subjected to any one of the treatments specified in paragraphs (a)(2), (a)(4), or (a)(5) of § 95.5.

Hides and skins from Mexico may also enter the United States without other restriction if they are found to have been frozen solid for 24 hours upon inspection by an inspector or are accompanied by a certificate attesting to that fact issued by the shipper or importer and are free from ticks; are free from ticks and are accompanied by a certificate issued by a full-time salaried veterinary officer of the Government of Mexico stating that they have been treated with an acaricide; or are bovine hides taken from cattle that were subjected to a tickicidal dip in one of the permitted dips at a Mexican facility 7 to 12 days prior to slaughter, and are free from ticks. These requirements are intended to protect U.S. livestock from the introduction of bovine babesiosis.

The introductory text of § 95.5 provides that untanned hides and skins and bird trophies may be imported into the United States if they meet the requirements of that section or are handled at an approved establishment as set forth in § 95.6. Our final rule should have indicated that ruminant hides and skins from Mexico may not be handled at approved establishments because of the risk of the hides and skins being infested with ticks carrying bovine babesiosis. Since the publication of the final rule, we have not authorized any approved establishments to receive ruminant hides and skins from Mexico.

Therefore, we are amending the introductory text of § 95.5 so that it clearly states that ruminant hides and skins from Mexico that do not meet the requirements of § 95.5 are not eligible for importation for handling at an approved establishment as set forth in § 95.6.

To reflect this, we are also amending the introductory text of § 95.6 to exclude ruminant hides and skins from Mexico from the articles that can be offered for importation when they do not meet the conditions or requirements of § 95.5 if they are handled and treated at the port of entry under the further provisions of § 95.6.

List of Subjects in 9 CFR Part 95

Animal feeds, Hay, Imports, Livestock, Reporting and recordkeeping requirements, Straw, Transportation.

Accordingly, we are amending 9 CFR part 95 as follows:

PART 95—SANITARY CONTROL OF ANIMAL BYPRODUCTS (EXCEPT CASINGS), AND HAY AND STRAW, OFFERED FOR ENTRY INTO THE UNITED STATES

1. The authority citation for part 95 continues to read as follows:

Authority: 7 U.S.C. 8301-8317; 21 U.S.C. 136 and 136a; 31 U.S.C. 9701; 7 CFR 2.22, 2.80, and 371.4.

2. Section 95.5 is amended as follows:

a. The introductory text is revised to read as set forth below.

b. In paragraph (b)(1), by adding the words “are free of ticks and” after the word “They”.

§ 95.5 Untanned hides and skins and bird trophies; requirements for entry.

Untanned hides and skins and bird trophies ¹ may be imported into the United States if they meet the requirements of this section. Except for ruminant hides or skins from Mexico, untanned hides and skins and bird trophies may also be imported if handled at an approved establishment as set forth in § 95.6.

¹ The importation of bird trophies is also subject to restrictions under § 95.30.

* * * * *

3. In § 95.6, the introductory text is revised to read as follows:

§ 95.6 Untanned hides, skins, and bird trophies; importation permitted subject to restrictions.

Except for ruminant hides or skins from Mexico, hides or skins or bird trophies offered for importation which do not meet the conditions or requirements of § 95.5 shall be handled and treated in the following manner after arrival at the port of entry:

* * * * *

Done in Washington, DC, this 13th day of May 2011.
Kevin Shea,
Acting Administrator, Animal and Plant Health Inspection Service.

[FR Doc. 2011-12319 Filed 5-18-11; 8:45 am]

BILLING CODE 3410-34-P